DEPARTMENT OF THE INTERIOR

Fish and Wildlife Service

Information Collection Sent to the Office of Management and Budget (OMB) for Approval Under the Paperwork Reduction Act; 1018-0118; Private Stewardship Grants Program; Correction

AGENCY: Fish and Wildlife Service, Interior.

ACTION: Notice; request for comments; correction.

SUMMARY: The Fish and Wildlife Service (Service) published a document in the Federal Register of August 2, 2005, requesting comments on an information collection for the Private Stewardship Grants Program (1018-0118). The document contained an incorrect URL.

FOR FURTHER INFORMATION CONTACT: Hope Grey, Information Collection Clearance Officer, Fish and Wildlife Service, MS 222-ARLSQ, 4401 North Fairfax Drive, Arlington, VA 22203 (mail); hope_grey@fws.gov (e-mail); (703) 358-2269 (fax); or 703-358-2482 (telephone).

Correction

In the Federal Register of August 2, 2005, in FR Doc. 05-15187, on page 44354, in the third column, correct the URL at the end of the second paragraph under the SUPPLEMENTARY INFORMATION caption to read: http://www.fws.gov/endangered/grants/private_stewardship/FY2003/Awards.pdf.

Dated: August 3, 2005.
Hope Grey,
Information Collection Clearance Officer, Fish and Wildlife Service.

[FR Doc. 05-15713 Filed 8-8-05; 8:45 am]

BILLING CODE 4310-55-P